DEPARTMENT OF THE INTERIOR

Bureau of Indian Affairs

[201D0102DR/DS5A300000/DR.5A311.IA000118]

National Tribal Broadband Grant; Solicitation of Proposals

AGENCY: Bureau of Indian Affairs, Interior.

ACTION: Notice; correction.

SUMMARY: The Bureau of Indian Affairs published a document in the Federal Register of February 10, 2020, that contained an incorrect CFDA Number. This notice corrects the CDFA Number to be 15.032.

FOR FURTHER INFORMATION CONTACT: Mr. James R. West, National Tribal Broadband Grant (NTBG) Manager, Office of Indian Energy and Economic Development, Room 6049-B, 12220 Sunrise Valley Drive, Reston, Virginia 20191; telephone: (202) 595-4766; email: jamesr.west@bia.gov.

SUPPLEMENTARY INFORMATION:

Correction

In the Federal Register of February 10, 2020, in FR Doc. 2020-02616, on page 7581, in the second column, correct the CFDA number to be 15.032, so that the text reads “Item 11: CFDA Title box—Type in the numbers: 15.032.”

Tara Sweeney,
Assistant Secretary—Indian Affairs.

[FR Doc. 2020-07248 Filed 4-6-20; 8:45 am]

BILLING CODE 4337-10-P